DEPARTMENT OF HOUSING AND URBAN DEVELOPMENT

[Docket No. FR-4837-D-15]

Delegation of Authority for the Section 184 Indian Housing Loan Guarantee Program

AGENCY: Office of the Secretary, HUD.

ACTION: Notice of delegation of authority.

SUMMARY: In this notice, the Secretary delegates the authority to administer the Section 184 Indian Housing Loan Guarantee program to the Assistant Secretary for Public and Indian Housing.

EFFECTIVE DATE: July 7, 2003.

FOR FURTHER INFORMATION CONTACT: Edward Fagan, Office of Native American Programs, Office of Public and Indian Housing, Department of Housing and Urban Development, 451 Seventh Street, SW., Room 4126, Washington, DC 20410-5000; telephone (202) 401-7914. (This is not a toll-free number.) For those needing assistance, this number may be accessed through TTY by calling the toll-free Federal Information Relay Service at 1-800-877-8339.

SUPPLEMENTARY INFORMATION: The Section 184 Indian Housing Loan Guarantee program is authorized by Section 184 of the Housing and Community Development Act of 1992 (12 U.S.C. 1715z-13a). The purpose of this program is to provide Indian families, Indian housing authorities, and Indian tribes with access to sources of private financing.

This notice delegates the authority to administer the Section 184 Indian Housing Loan Guarantee program to the Assistant Secretary for Public and Indian Housing.

Section A. Authority Delegated

The Secretary of HUD delegates to the Assistant Secretary for Public and Indian Housing the authority to administer the Section 184 Indian Housing Loan Guarantee program under Section 184 of the Housing and Community Development Act of 1992 (12 U.S.C. 1715z-13a), including the authority to issue and waive regulations.

Section B. Authority Excepted

The authority delegated under Section A does not include the power to sue and be sued.

Section C. Authority to Redelegate

The authority delegated in Section A may be redelegated to employees of the Department through written delegations of authority, except for the authority to issue and waive regulations.

Section D. Authority Revoked

All prior delegations of authority concerning the Section 184 Indian Housing Loan Guarantee program are revoked, including but not limited to, the delegation of authority published on September 26, 1994 (59 FR 491234).

Authority: Section 7(d), Department of Housing and Urban Development Act (42 U.S.C. 3535(d)).

Dated: July 7, 2003.
Mel Martinez,
Secretary.

[FR Doc. 03-18186 Filed 7-17-03; 8:45 am]

BILLING CODE 4210-32-P